ENVIRONMENTAL PROTECTION AGENCY

[OPPT-2005-0040; FRL-7727-3]

Response to Petition Regarding Animal Welfare; Notice of Availability

AGENCY: Environmental Protection Agency (EPA).

ACTION: Notice.

SUMMARY: EPA received a petition, dated April 5, 2005, from the People for the Ethical Treatment of Animals (PETA). The petition requests EPA initiate rulemaking to require that: All chemical testing conducted in connection with test rules and voluntary consent orders under the Toxic Substances Control Act (TSCA), as well as testing under the voluntary High Production Volume (HPV) Challenge Program, adhere to certain animal welfare principles contained in guidance provided to participants in the voluntary HPV Challenge Program; and EPA enforce those guidelines where they are not followed. The petition states that it is filed under section 21 of TSCA and section 553(e) of the Administrative Procedure Act (APA). Although EPA believes the petitioner's request is outside the scope of TSCA section 21, EPA responded to the petitioners within the 90-day timeframe established in TSCA for section 21 petitions. EPA has responded to the petition by denying the request and is announcing the public availability of this response.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Roy Seidenstein, Chemical Control Division (7405M), Office of Pollution Prevention and Toxics, Environmental Protection Agency, 1200 Pennsylvania Ave., NW., Washington, DC 20460-0001; telephone number: (202) 564-9274; e-mail address: seidenstein.roy@epa.gov.

SUPPLEMENTARY INFORMATION:

I. General Information

A. Does this Action Apply to Me?

This action is directed to the public in general, and may be of particular interest to participants in the voluntary HPV Challenge Program and persons who are or may be required to conduct testing of chemical substances under TSCA. Since other entities may also be interested, the Agency has not attempted to describe all the specific entities that may be interested in this action. If you have any questions regarding the applicability of this action to a particular entity, consult the technical person listed under FOR FURTHER INFORMATION CONTACT.

B. How Can I Get Copies of this Document and Other Related Information?

1. Docket. EPA has established an official public docket for this action under docket identification (ID) number OPPT-2005-0040. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/. The documents referenced in Unit I.B.1 are also accessible through the EPA Internet at http://www.epa.gov/chemrtk/awpetition.htm/. In addition, an electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

II. What Action is the Agency Taking?

This action announces the availability of EPA's response to the petition. The public may access both the petition and EPA's response as described in Unit I.B.

List of Subjects

Environmental protection, Animal welfare, Toxic substances, Voluntary High Production Volume Challenge Program.

Dated: July 15, 2005.
Susan B. Hazen,
Acting Assistant Administrator, Office of Prevention, Pesticides and Toxic Substances.

[FR Doc. 05-14605 Filed 7-22-05; 8:45 am]

BILLING CODE 6560-50-S